DEPARTMENT OF AGRICULTURE

Rural Business-Cooperative Service

[DOCKET #: RBS-23-NONE-0015]

Notice of Revision of a Currently Approved Information Collection

AGENCY: Rural Business-Cooperative Service, USDA.

ACTION: Notice; request for comments.

SUMMARY: In accordance with the Paperwork Reduction Act of 1995 the Rural Business-Cooperative Service (RBCS) announces its intention to request a revision of a currently approved information collection package for Voluntary Labeling Program for Biobased Products.

DATES: Comments on this notice must be received by September 25, 2023 to be assured of consideration.

ADDRESSES: Comments may be submitted electronically by the Federal eRulemaking Portal, https://www.regulations.gov. In the “Search for dockets and documents on agency actions” box enter the Docket No. RBS-23-NONE-0015 and click the “Search” button. From the search results, click on or locate the document title: “Notice of Revision of a Currently Approved Information Collection” and select the “Comment” button. Before inputting comments, commenters may review the “Commenter's Checklist” (optional). Insert comments under the “Comment” title, click “Browse” to attach files (if available), input email address and select “Submit Comment.” Information on using Regulations.gov, including instructions for accessing documents, submitting comments, and viewing the docket after the close of the comment period, is available through the site's “FAQ” link.

All comments will be available for public inspection online at the Federal eRulemaking Portal (https://www.regulations.gov).

Other Information: Additional information about Rural Development and its programs is available on the internet at https://www.rd.usda.gov.

FOR FURTHER INFORMATION CONTACT: Katherine Anne Mathis, Rural Development Innovation Center—Regulations Management Division, U.S. Department of Agriculture, 1400 Independence Avenue SW, Washington, DC 20250, Telephone: 202-713-7565, email: Katherine.mathis@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Title: Voluntary Labeling Program for Biobased Products.

OMB Control Number: 0570-0071.

Type of Request: Revision of a currently approved information collection.

Abstract: Section 9002(h) of the Farm Security and Rural Investment Act (FSRIA) of 2002, as amended by the Food, Conservation, and Energy Act (FCEA) of 2008, the Agricultural Act of 2014, and the Agricultural Improvement Act of 2018, requires the Secretary of Agriculture to implement a Voluntary Labeling Program that would enable qualifying biobased products to be certified with a “USDA Certified Biobased Product” label. USDA subsequently published the terms and conditions for voluntary use of the label, which can be found in the Code of Federal Regulations (CFR) at 7 CFR part 3202.

To implement the statutory requirements of FSRIA, USDA will gather relevant product information on biobased products for which manufacturers and vendors seek certification to use the label. Participation in the Voluntary Labeling Program is entirely voluntary.

The information collected will enable USDA to evaluate the qualifications of biobased products to carry the USDA Certified Biobased Product label and to ensure that the label is used properly and in accordance with the requirements specified in 7 CFR part 3202. To the extent feasible, the information sought by USDA can be transmitted electronically using the website http://www.biopreferred.gov. If electronic transmission of information is not practical for some applicants, USDA will provide technical assistance to support the transmission of information to USDA.

Estimate of Burden: Public reporting burden for this collection of information is estimated to average 2.4 hours per response.

Respondents: Manufacturers and vendors who wish to apply the “USDA Certified Biobased Product” label to their biobased products. Participation is voluntary.

Estimated Number of Respondents: 300.

Estimated Number of Responses per Respondent: 2.75.

Estimated Number of Responses: 825.

Estimated Total Annual Burden on Respondents: 1,988 hours.

Copies of this information collection can be obtained from Katherine Anne Mathis, Rural Development Innovation Center—Regulations Management Division, at (202) 713-7565. Email: katherine.mathis@usda.gov.

All responses to this notice will be summarized and included in the request for OMB approval. All comments will also become a matter of public record.

Karama Neal,
Administrator, Rural Business-Cooperative Service, USDA Rural Development.

[FR Doc. 2023-15880 Filed 7-26-23; 8:45 am]

BILLING CODE 3410-XY-P